SMALL BUSINESS ADMINISTRATION

[Disaster Declaration #10821 and #10822]

Alabama Disaster Number AL-00007

AGENCY: U.S. Small Business Administration.

ACTION: Amendment 2.

SUMMARY: This is an amendment of the Presidential declaration of a major disaster for the State of Alabama (FEMA-1687-DR), dated 03/03/2007.

Incident: Severe Storms and Tornadoes.

Incident Period: 03/01/2007.

EFFECTIVE DATE: 03/26/2007.

Physical Loan Application Deadline Date: 05/02/2007.

EIDL Loan Application Deadline Date: 12/03/2007.

ADDRESSES: Submit completed loan applications to: U.S. Small Business Administration, Processing and Disbursement Center, 14925 Kingsport Road, Fort Worth, TX 76155.

FOR FURTHER INFORMATION CONTACT: A. Escobar, Office of Disaster Assistance, U.S. Small Business Administration, 409 3rd Street, SW., Suite 6050, Washington, DC 20416.

SUPPLEMENTARY INFORMATION: The notice of the Presidential disaster declaration for the State of Alabama, dated 03/03/2007 is hereby amended to include the following areas as adversely affected by the disaster:

Primary Counties:

Jefferson

Contiguous Counties:

Alabama

Bibb, Blount, Saint Clair, Shelby, Tuscaloosa, Walker

All other information in the original declaration remains unchanged.

(Catalog of Federal Domestic Assistance Numbers 59002 and 59008)

Herbert L. Mitchell,
Associate Administrator for Disaster Assistance.

[FR Doc. E7-6630 Filed 4-6-07; 8:45 am]

BILLING CODE 8025-01-P